DEPARTMENT OF ENERGY

Federal Energy Regulatory Commission

Notice of Commission Staff Attendance

The Federal Energy Regulatory Commission (Commission) hereby gives notice that members of the Commission's staff may attend the following meeting related to the transmission planning activities of the Southwest Power Pool, Inc. (SPP):

SPP Strategic Planning Committee Task Force on Order No. 1000 Meeting

March 8, 2012

10:00-4 p.m., Local Time.

March 9, 2012

8:00-3 p.m., Local Time.

March 29, 2012

9:00-3 p.m., Local Time.

The above-referenced meeting will be held at: AEP Offices, 1201 Elm Street, Dallas, TX 72501.

The above-referenced meeting is open to stakeholders.

Further information may be found at www.spp.org.

The discussions at the meetings described above may address matters at issue in the following proceedings:

Docket No. ER09-35-001, Tallgrass Transmission, LLC.

Docket No. ER09-36-001, Prairie Wind Transmission, LLC.

Docket No. ER09-36-002, Prairie Wind Transmission, LLC.

Docket No. ER09-548-001, ITC Great Plains, LLC.

Docket No. ER11-4105-000, Southwest Power Pool, Inc.

Docket No. EL11-34-001, Midwest Independent Transmission System Operator, Inc.

Docket No. ER11-3967-002, Southwest Power Pool, Inc.

Docket No. ER11-3967-003, Southwest Power Pool, Inc.

Docket No. ER12-1179-000, Southwest Power Pool, Inc.

For more information, contact Luciano Lima, Office of Energy Markets

Regulation, Federal Energy Regulatory Commission at (202) 502-6210 or luciano.lima@ferc.gov.

Dated: March 6, 2012.
Nathaniel J. Davis, Sr.,
Deputy Secretary.

[FR Doc. 2012-6629 Filed 3-19-12; 8:45 am]

BILLING CODE 6717-01-P